DEPARTMENT OF TRANSPORTATION

National Highway Traffic Safety Administration

Announcing the Sixth Quarterly Meeting of the Crash Injury Research and Engineering Network

AGENCY: National Highway Traffic Safety Administration (NHTSA), DOT.

ACTION: Meeting announcement.

SUMMARY: This notice announces the Sixth Quarterly Meeting of members of the Crash Injury Research and Engineering Network. CIREN is a collaborative effort to conduct research on crashes and injuries at nine Level 1 Trauma Centers which are linked by a computer network. Researchers can review data and share expertise, which could lead to a better understanding of crash injury mechanisms and the design of safer vehicles.

DATE AND TIME: The meeting is scheduled from 9 a.m. to 5 p.m. on Thursday, September 6, 2001.

ADDRESSES: The meeting will be held at the University of Michigan, 1500 E. Medical Center Drive, G2000 Towsley Center (Dow Auditorium), Ann Arbor, Michigan 48109-0201.

FOR FURTHER INFORMATION CONTACT: Mrs. Donna Stemski, Office of Human-Centered Research, 400 Seventh Street, S.W., Room 6206, Washington, DC 20590, telephone: (202) 366-5662.

SUPPLEMENTARY INFORMATION: The CIREN System has been established and crash cases have been entered into the database by each Center. CIREN cases may be viewed from the NHTSA/CIREN web site at: http://www-nrd.nhtsa.dot.gov/include/bio_and_trauma/ciren-final.htm. NHTSA has held three Annual Conferences where CIREN research results were presented. Further information about the three previous CIREN conferences is also available through the NHTSA website. NHTSA held the first quarterly meeting on May 5, 2000, with a topic of lower extremity injuries in motor vehicle crashes, the second quarterly meeting on July 21, 2000, with a topic of side impact crashes, the third quarterly meeting on November 30, 2000, with a topic of thoracic injuries in crashes, the fourth quarterly meeting on March 16, 2001, with a topic of offset frontal collisions, and the fifth quarterly meeting on June 21, 2001, on CIREN outreach efforts. Presentations from these meetings is available through the NHTSA website.

NHTSA plans to continue holding quarterly meetings on a regular basis to disseminate CIREN information to interested parties. This is the sixth such meeting. The topic for this meeting is injuries involving Sport Utility Vehicles (SUVs). Subsequent meetings have tentatively been scheduled for December 2001 and March 2002. These quarterly meetings are in lieu of an annual CIREN conference.

Issued on: July 24, 2001.
Joseph N. Kanianthra,
Acting Associate Administrator for Research and Development, National Highway Traffic Safety Administration.

[FR Doc. 01-18763 Filed 7-26-01; 8:45 am]

BILLING CODE 4910-59-P